DEPARTMENT OF HOMELAND SECURITY

[USCG-2004-18656]

U.S. Position on Amendments to MARPOL 73/78 Regarding the Phase-Out of Existing Single Hull Tank Vessels

AGENCY: Coast Guard, DHS.

ACTION: Notice.

SUMMARY: This notice is to inform the public that on Friday, July 2, 2004, the U.S. Embassy in London deposited a declaration with the International Maritime Organization stating that the express approval of the U.S. Government will be necessary before the December 2003 revised Regulation 13G and new Regulation 13H of the International Convention for the Prevention of Pollution from Ships (MARPOL 73/78) would enter into force for the U.S. In this declaration, the U.S. cited specific technical differences between the revised MARPOL 73/78 regulations for new and existing tank vessels and provisions of the Oil Pollution Act of 1990.

FOR FURTHER INFORMATION CONTACT: For information concerning this notice, contact LCDR Roger K. Butturini, Project Manager, Office of Standards Evaluation and Development, Project Development Division (G-MSR-2), telephone 202-267-2857 or via e-mail rbutturini@comdt.uscg.mil. If you have questions about viewing material on the docket, call Andrea M. Jenkins, Program Manager, Docket Operations, telephone 202-366-0271.

ADDRESSES: Comments and material received from the public, as well as documents mentioned in this preamble as being available in the docket, are part of docket USCG-2004-18656 and are available for inspection or copying at the Docket Management Facility, U.S. Department of Transportation, room PL-401, 400 Seventh Street SW., Washington, DC, between 9 a.m. and 5 p.m., Monday through Friday, except Federal holidays. You may also find this docket on the Internet at http://dms.dot.gov.

SUPPLEMENTARY INFORMATION: The International Convention for the Prevention of Pollution from Ships (MARPOL 73/78), 33 U.S.C. § 1901 et seq., is the primary international agreement aimed at reducing pollution of the marine environment from a variety of vessel-generated sources. Annex I to MARPOL 73/78, “Prevention of Pollution by Oil,” contains provisions intended to reduce both intentional and accidental discharges of oil. Regulation 13G of Annex I, “Prevention of oil pollution in the event of collision or stranding-Measures for existing tankers,” establishes the phase-out schedule for single hull oil tank vessels. On December 4, 2003, the IMO adopted an amendment to Regulation 13G to accelerate the phase-out of single hull tank vessels. During the same session, the IMO also adopted a new Regulation 13H to Annex I, entitled “Prevention of oil pollution when carrying heavy grades of oil,” to ban the carriage of heavy grade oil in single hull tank vessels.

Although the international maritime community is moving closer to U.S. standards, significant differences between Regulation 13G and the Oil Pollution Act of 1990 (OPA 90), 46 U.S.C. 3703, remain. For example, OPA 90 is generally more aggressive in its phase-out schedule for a majority of single hull oil tank vessels, based on size and age of the ship. During similar circumstances in 1992 and 2002, the U.S. Embassy in London deposited declarations with the International Maritime Organization (IMO) stating that the express approval of the United States would be necessary before Regulation 13F of Annex I, “Prevention of oil pollution in the event of collision or stranding” or amended Regulation 13G would enter into force for the United States. Furthermore, the link between Regulation 13H and Regulations 13F and 13G is such that it is difficult to apply Regulation 13H without also giving effect to Regulations 13F and 13G.

Through its July 2, 2004 declaration, which is available in the docket, the U.S. declared a position with the IMO that the express approval of the U.S. will be necessary before these amendments will be applied in lieu of existing U.S. law. As a result, the U.S. has reaffirmed with the IMO that OPA 90 continues to be the national governing standard for tank vessels operating in U.S. waters.

Authority: 33 U.S.C. 1231, 33 U.S.C. 1321, E.O. 12777, Department of Homeland Security Delegation No. 0170.1.

Dated: July 26, 2004.
Joseph J. Angelo,
Director of Standards, Marine Safety and Environmental Protection.

[FR Doc. 04-17527 Filed 7-30-04; 8:45 am]

BILLING CODE 4910-15-P